DEPARTMENT OF HOMELAND SECURITY

Coast Guard

[Docket No. USCG-2008-1040]

Navigation Safety Advisory Council; Meeting

AGENCY: Coast Guard, DHS.

ACTION: Notice of meeting.

SUMMARY: The Navigation Safety Advisory Council (NAVSAC) will meet in Washington, DC, to discuss various issues relating to the safety of navigation. The meeting will be open to the public.

DATES: NAVSAC will meet on Wednesday, December 10, 2008, from 8 a.m. to 5 p.m. and Thursday, December 11, 2008 from 8 a.m. to 5 p.m. The meeting may close early if all business is finished. Written material and requests to make oral presentations should reach the Coast Guard on or before November 24, 2008. Requests to have a copy of your material distributed to each member of the committee should reach the Coast Guard on or before November 24, 2008.

ADDRESSES: NAVSAC will meet at the Courtyard by Marriott Capital Hill/Navy Yard, 104 L Street, SE., Washington, DC 20003. Send written material and requests to make oral presentations to Mr. John Bobb, the Assistant Designated Federal Officer (ADFO), Commandant (CG-54121), U.S. Coast Guard Headquarters, 2100 Second Street, SW., Washington, DC 20593-0001. This notice is available on our online docket, USCG-2008-1040 at http://www.regulations.gov.

FOR FURTHER INFORMATION CONTACT: Mr. Mike Sollosi, the Designated Federal Officer (DFO) of NAVSAC, telephone 202-372-1545 or e-mail at mike.m.sollosi@uscg.mil, or Mr. John Bobb, the ADFO, telephone 202-372-1532, fax 202-372-1929 or e-mail at john.k.bobb@uscg.mil.

SUPPLEMENTARY INFORMATION: Notice of the meeting is given under the Federal Advisory Committee Act, 5 U.S.C. App. (Pub. L. 92-493).

Agenda of Meeting

The agenda for the December 10-11, 2008, NAVSAC meeting is as follows:

(1) E-Navigation Requirements.

(2) Arctic Navigation Requirements.

(3) Navigation Fairways.

(4) Unmanned Surface Vessels.

Procedural

The meeting is open to the public. Please note that the meeting may close early if all business is finished. At the Chair's discretion, members of the public may make oral presentations during the meeting. If you would like to make an oral presentation at the meeting, please notify the DFO or ADFO no later than November 24, 2008. Written material for distribution at the meeting should reach the Coast Guard no later than November 24, 2008. If you would like a copy of your material distributed to each member of the committee in advance of the meeting, please submit 20 copies to the DFO or ADFO no later than November 24, 2008.

Information on Services for Individuals with Disabilities

For information on facilities or services for individuals with disabilities or to request special assistance at the meeting, contact the DFO or ADFO as soon as possible.

Dated: October 31, 2008.
Wayne A. Muilenburg,
Captain, U.S. Coast Guard, Office of Waterways Management.

[FR Doc. E8-26438 Filed 11-5-08; 8:45 am]

BILLING CODE 4910-15-P